DEPARTMENT OF ENERGY

Federal Energy Regulatory Commission

[Docket No. CP01-416-000]

Sierra Production Company; Notice of Application

August 3, 2001.

Take notice that on July 27, 2001, Sierra Production Company, (Sierra), P.O. Box 716, Shelby, Montana 59474, filed an application seeking Section 3 authorization and a Presidential Permit pursuant to Executive Order No. 10485, as amended by Executive Order No. 12038, to site, construct, operate and maintain facilities at the International Boundary between the United States and Canada for the importation of 5,000 Mcf per day of natural gas into Montana from Alberta, Canada, all as more fully set forth in the application on file with the Commission and open to public inspection. This filing may be viewed on the web at http://www.ferc.gov using the “RIMS” link, select “Docket #” and follow the instructions (call (202) 208-2222 for assistance).

Specifically, Sierra proposes to construct a meter station and small 6-inch gathering pipeline extending from a gathering system and processing facility owned by MCW Transmission, LP, located in the Sweetgrass Hills Area of North Central Toole County, Montana, for a distance of approximately 1,786 feet north to the United States/Canada border. From the International Boundary, the pipeline will extend northeasterly for a distance of 6,379 feet to a gas well owned by Sierra and located in extreme Southern Alberta.

Sierra states that the proposed construction will allow unprocessed gas from the Alberta Province well to be imported into the existing U.S. gathering/processing system, thereby providing much needed natural gas in Montana, adding to Canadian resource development, and benefitting the public and businesses in the area.

Any questions regarding the application should be directed to Sam Baldridge, Petroleum Land Man, Sierra Production Company, P. O. Box 716, Shelby, Montana, 59474, at (406) 261-4464.

There are two to become involved in the Commission's review of this project. First, any person wishing to obtain legal status by becoming a party to the proceedings for this project should, on or before August 24, 2001, file with the Federal Energy Regulatory Commission, 888 First Street, N.E., Washington, D.C. 20426, a motion to intervene or a protest in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Interventions, comments, and protests may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

David P. Boergers,
Secretary.

[FR Doc. 01-19984 Filed 8-8-01; 8:45 am]

BILLING CODE 6717-01-P